GENERAL SERVICES ADMINISTRATION

Notice of Intent To Prepare an Environmental Impact Statement for the San Ysidro Border Station Expansion

AGENCIES: General Services Administration (GSA), California Department of Transportation (CalTrans), and Federal Highway Administration (FHWA).

ACTION: Notice of intent to prepare an Environmental Impact Statement (EIS) for the upgrade and expansion of the existing San Ysidro Border Station.

SUMMARY: The action to be evaluated by this EIS is the upgrade and expansion of the existing San Ysidro Border Station, located in San Ysidro, California, to relieve the substantial increase of traffic congestion at the southern terminus of I-5; to implement new mandated border entry/exit programs, in accordance with the legislative requirements of the Illegal Immigration Reform and Immigrant Responsibility Act of 1996; to further the reorganization of the Federal Inspection Services into an agency of Homeland Security; and, to maintain control over ever present illegal activities at the border.

Alternatives

Four build alternatives for the proposed project are currently under consideration and will be analyzed in the EIS for potential environmental impacts. In addition, as required be NEPA, the “No Build” alternative will be analyzed. In an effort to provide effective border control services to both Mexico and the United States (U.S.), and to streamline traffic along I-5 between Mexico and the U.S., several potential developments outside of the scope of this project are being taken into consideration during the planning stages of the proposed project. One of these potential developments involves the Mexican Federal Government's plan to develop a new non-commercial port of entry at El Chaparral, located directly south of the decommissioned U.S. Virginia Avenue Commercial Vehicle Inspection facility. The San Ysidro Border Station would need to align with, or connect to, the El Chaparral facility. A second local area project which would affect the development of the proposed project is the San Ysidro Intermodal Transportation Center, which will improve the trolley terminus to the east of the existing San Ysidro Border Station. The proposed transportation center also includes general hardscape and landscape improvements, as well as upgrades to existing parking lots and roadways. This development would establish the area east of the existing San Ysidro Border Station as the main hub for the local population and any individuals wishing to cross the U.S./Mexico border.

Public Involvement

The views and comments of the public are necessary in determining the scope and content of the environmental analysis in connection with the proposed project. A scoping meeting for the proposed project will be held on Wednesday, July 23, 2003 from 3 p.m. to 7 p.m. at the San Ysidro Multi-Cultural Center, located at 4345 Otay Mesa Road in San Ysidro, CA. Interested parties may attend to present questions and concerns that they believe should be addressed in the EIS. Release of the Draft EIS for public comment and the public meeting will be announced in the local news media as these dates are established.

FOR FURTHER INFORMATION CONTACT: General Services Administration, Pacific Rim Region, Ramón D. Riesgo, Border Station Program, Desert Service Center, 401 West “A” Street, Suite 2075, San Diego, CA 92101-8843, (619) 557-5092.

Steve J. Scavo,
Acting Director, Desert Service Center.

[FR Doc. 03-16784 Filed 7-1-03; 8:45 am]

BILLING CODE 6620-27-M